ENVIRONMENTAL PROTECTION AGENCY

[ER-FRL-9017-7]

Environmental Impact Statements; Notice of Availability

Responsible Agency: Office of Federal Activities, General Information (202) 564-7146 or http://www.epa.gov/compliance/nepa/.

Weekly receipt of Environmental Impact Statements Filed 10/20/2014 Through 10/24/2014 Pursuant to 40 CFR 1506.9

Notice

Section 309(a) of the Clean Air Act requires that EPA make public its comments on EISs issued by other Federal agencies. EPA's comment letters on EISs are available at: http://www.epa.gov/compliance/nepa/eisdata.html.

EIS No. 20140310, Final Supplement, USFWS, CA, Coachella Valley Multiple Species Habitat Conservation Plan, Major Amendment, Review Period Ends: 12/01/2014, Contact: Dan Cox 916-414-6539

EIS No. 20140311, Draft EIS, BLM, Multi, Southeastern States Draft Resource Management Plan, Comment Period Ends: 01/29/2015, Contact: Gary Taylor 601-977-5413

EIS No. 20140312, Final EIS, FERC, NY, Constitution Pipeline and Wright Interconnect Projects, Review Period Ends: 12/01/2014, Contact: Kevin Bowman 202-502-6287

EIS No. 20140313, Draft EIS, USA, CO, Pinon Canyon Maneuver Site (PCMS) Training and Operations, Comment Period Ends: 12/15/2014, Contact: Debra Benford 719-526-4666

Dated: October 28, 2014.
Cliff Rader,
Director, NEPA Compliance Division, Office of Federal Activities.

[FR Doc. 2014-25943 Filed 10-30-14; 8:45 am]

BILLING CODE 6560-50-P